FEDERAL COMMUNICATIONS COMMISSION

[FR ID 161545]

Radio Broadcasting Services; AM or FM Proposals To Change the Community of License

AGENCY: Federal Communications Commission.

ACTION: Notice.

DATES: The agency must receive comments on or before October 10, 2023.

ADDRESSES: Federal Communications Commission, 45 L Street NE, Washington, DC 20554.

FOR FURTHER INFORMATION CONTACT: Rolanda F. Smith, 202-418-2054.

SUPPLEMENTARY INFORMATION: The following applicants filed AM or FM proposals to change the community of license: MOBILE RADIO PARTNERS, INC., WTOX(AM), Fac. ID No. 129524, FROM: GLEN ALLEN, VA, TO: BENSLEY, VA, File No. BP-20230622AAA; ESTRELLA BROADCASTING, LLC, KZXO(FM), Fac. ID No. 762493, FROM: SALOME, AZ, TO: BLUEWATER, AZ, File No. 0000217599; BLUEBERRY BROADCASTING, LLC, WBKA(FM), Fac. ID No. 40925, FROM: BAR HARBOR, ME, TO: TRENTON, ME, File No. 0000216359; NEWBERRY BROADCASTING INC., WKYY(FM), Fac. ID No. 170956, FROM: MORGANTOWN, KY, TO: BEAVER DAM, KY, File No. 0000218482; and GALLUP PUBLIC RADIO, NEW(FM), Fac. ID No. 767163, FROM: ZUNI PUEBLO, NM, TO: BLACK ROCK, NM, File No. 0000218047. The full text of these applications is available electronically via the Consolidated Data Base System (CDBS) https://licensing.fcc.gov/prod/cdbs/pubacc/prod/app_sear.htm or Licensing and Management System (LMS), https://apps2int.fcc.gov/dataentry/public/tv/publicAppSearch.html.

Federal Communications Commission.
Nazifa Sawez,
Assistant Chief, Audio Division, Media Bureau.

[FR Doc. 2023-17072 Filed 8-8-23; 8:45 am]

BILLING CODE 6712-01-P